DEPARTMENT OF COMMERCE

National Oceanic and Atmospheric Administration

RIN 0648-XA898

Endangered Species; File Nos. 13599 and 1614

AGENCY: National Marine Fisheries Service (NMFS), National Oceanic and Atmospheric Administration (NOAA), Commerce.

ACTION: Notice; receipt of applications for permit modifications.

SUMMARY: Notice is hereby given that the following applicants have applied in due form for modifications to their scientific research permits: the National Ocean Service Marine Forensic Lab (NOS Lab) [Responsible Party: Julie Carter], 219 Fort Johnson Road, Charleston, SC 29412 (Permit No. 13599-01), and the NOAA Fisheries Northeast Region, Protected Resources Division [Responsible Party: Mary Colligan], 1 Blackburn Drive, Gloucester, MA 01930 (Permit No. 1614-01).

DATES: Written, telefaxed, or email comments must be received on or before January 26, 2012.

ADDRESSES: Documents associated with this amendment request are available upon written request or by appointment in the following office(s):

Permits, Conservation and Education Division, Office of Protected Resources, NMFS, 1315 East-West Highway, Room 13705, Silver Spring, MD 20910; phone (301) 427-8401; fax (301) 713-0376;

Northeast Region, NMFS, One Blackburn Drive, Gloucester, MA 01930-2298; phone (978) 281-9300; fax (978) 281-9394; and

Southeast Region, NMFS, 263 13th Avenue South, Saint Petersburg, Florida 33701; phone (727) 824-5312; fax (727) 824-5309.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Jennifer Skidmore or Colette Cairns, (301) 427-8401.

SUPPLEMENTARY INFORMATION: The subject modifications to Permit No. 13599-01 and 1614-01 are requested under the authority of the Endangered Species Act of 1973 (ESA), as amended (16 U.S.C. 1531 et seq.) and the regulations governing the taking, importing, and exporting of endangered and threatened species (50 CFR 222-226).

Permit No. 13599-01, issued on September 20, 2010 (73 FR 78724), authorizes the permit holder to receive, import, export, transfer, archive, and conduct analyses of marine mammal and endangered species parts. Species include all cetaceans, pinnipeds (except for walrus), sea turtles (in the water), smalltooth sawfish (Pristis pectinata), shortnose (Acipenser brevirostrum), green (Acipenser medirostris) and Gulf (Acipenser oxyrinchus desotoi) sturgeon, black (Haliotis cracherodii) and white (Haliotis sorenseni) abalone, chinook (Oncorhynchus tshawytscha), chum (Oncorhynchus keta), coho (Oncorhynchus kisutch) and sockeye (Oncorhynchus nerka) salmon, steelhead trout (Oncorhynchus mykiss), and totoaba (Totoaba macdonaldi). Permit No. 1614-01, (73 FR 25668) issued on April 30, 2008 authorizes the permit holder to collect, receive and transport 100 dead shortnose sturgeon, or parts thereof, annually. Researchers are also authorized the receipt and transport of up to 350 captive bred, dead shortnose sturgeon annually from any U.S. facility authorized to hold captive sturgeon.

The permit holders are requesting their permits be modified to include Atlantic sturgeon (Acipenser oxyrinchus oxyrinchus), due to the proposed listing of this species under the ESA. The modifications to include Atlantic sturgeon on these permits would be issued once the listing becomes effective. The permit holders request authorization for the receipt, importation, exportation, transfer, archive and analysis of Atlantic sturgeon parts and carcasses. Atlantic sturgeon parts and samples would be used to support law enforcement actions, research studies (primarily genetics), and outreach education. Atlantic sturgeon samples would be obtained from individuals authorized to collect them in the course of scientific research, salvage activities, or taken during other authorized activities. The modifications would be valid until each permit expires.

In compliance with the National Environmental Policy Act of 1969 (42 U.S.C. 4321 et seq.), an initial determination has been made that the activities proposed are categorically excluded from the requirement to prepare an environmental assessment or environmental impact statement.

Dated: December 20, 2011.
Tammy C. Adams,
Acting Chief, Permits and Conservation Division, Office of Protected Resources, National Marine Fisheries Service.

[FR Doc. 2011-33166 Filed 12-23-11; 8:45 am]

BILLING CODE 3510-22-P